DEPARTMENT OF TRANSPORTATION

Federal Aviation Administration

14 CFR Part 71

[Docket No. FAA-2012-0286; Airspace Docket No. 11-AWP-22]

RIN 2120-AA66

Establishment of Area Navigation (RNAV) Routes; Southwestern United States

AGENCY: Federal Aviation Administration (FAA), DOT.

ACTION: Final rule; correction.

SUMMARY: This action corrects a final rule published in the Federal Register on June 14, 2012, that establishes two RNAV routes in the southwest United States. This action corrects the latitude/longitude coordinates for the NOCHI waypoint (WP) as appears in the description of RNAV route T-310.

DATES: Effective date 0901 UTC, July 26, 2012. The Director of the Federal Register approves this incorporation by reference action under 1 CFR part 51, subject to the annual revision of FAA Order 7400.9 and publication of conforming amendments.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

Background

On June 14, 2012, the FAA published a final rule in the Federal Register establishing two RNAV routes, T-306 and T-310, in the southwestern United States (77 FR 35618). Subsequent to publication, an error was found in the latitude/longitude coordinates for the NOCHI waypoint (WP) in the description of T-310. The NOCHI WP also appears in the description of T-306, but the coordinates are correct in that description.

Area Navigation Routes are published in paragraph 6011 of FAA Order 7400.9V, dated August 9, 2011, and effective September 15, 2011, which is incorporated by reference in 14 CFR 71.1. The RNAV route listed in this document will be published subsequently in the Order.

Correction to Final Rule

Accordingly, pursuant to the authority delegated to me, the coordinates for the NOCHI waypoint as published in the Federal Register on June 14, 2012 (77 FR 35618) (FR Doc. 2012-14406) for RNAV route T-310, is corrected under the description as follows:

Paragraph 6011—United States Area Navigation Routes

* * * * *

T-310 [Corrected]

On page 35619, line 23, remove “NOCHI, AZ WP (lat. 31°59′58″ N., long. 108°30′51″ W.)” and insert “NOCHI, AZ WP (Lat. 32°02′00″ N., long. 109°45′30″ W.)

Issued in Washington, DC, on June 26, 2012.
Gary A. Norek,
Acting Manager, Airspace, Regulations and ATC Procedures Group.

[FR Doc. 2012-16696 Filed 7-9-12; 8:45 am]

BILLING CODE 4910-13-P